DEPARTMENT OF TRANSPORTATION

National Highway Traffic Safety Administration

49 CFR Part 578

[Docket No. NHTSA-2016-0136]

RIN 2127-AL82

Civil Penalties

AGENCY: National Highway Traffic Safety Administration (NHTSA), Department of Transportation (DOT).

ACTION: Final rule; delay of effective date.

SUMMARY: Pursuant to a notice published on January 30, 2017, the effective date of the rule entitled “Civil Penalties,” published in the Federal Register on December 28, 2016 was temporarily delayed for 60 days. This action temporarily delays the effective date of that rule for 90 additional days.

DATES: As of March 27, 2017, the effective date of the rule amending 49 CFR part 578 published at 81 FR 95489, December 28, 2016, delayed at 82 FR 8694, January 30, 2017, is further delayed until June 26, 2017.

FOR FURTHER INFORMATION CONTACT: For legal issues, contact Michael Kuppersmith, Office of Chief Counsel, at (202) 366-5263. For non-legal issues, contact John Finneran, Office of Vehicle Safety Compliance, at (202) 366-5289.

SUPPLEMENTARY INFORMATION: Pursuant to a document published on January 30, 2017 (82 FR 8694), the effective date of the rule entitled “Civil Penalties,” published in the Federal Register on December 28, 2016, at 81 FR 95489, was temporarily delayed for 60 days in accordance with the memorandum of January 20, 2017, from the Assistant to the President and Chief of Staff, entitled “Regulatory Freeze Pending Review.” ¹ The present action temporarily delays the effective date of that rule for 90 additional days. That rule responded to a petition for reconsideration from the Alliance of Automobile Manufacturers and the Association of Global Automakers by delaying, until model year 2019, the implementation of inflationary adjustments to the Corporate Average Fuel Economy (CAFE) civil penalty rate. These inflationary adjustments are required by Congress as part of the Federal Civil Penalties Inflation Adjustment Act Improvements Act of 2015. The additional 90-day delay in effective date is necessary to temporarily preserve the status quo while Department officials continue to review and consider the final rule and related laws. To the extent that 5 U.S.C. 553 is applicable, this action is exempt from notice and comment because it constitutes a rule of procedure under 5 U.S.C. 553(b)(3)(A).

¹ Available at https://www.whitehouse.gov/the-press-office/2017/01/20/memorandum-heads-executive-departments-and-agencies (last accessed Mar. 13, 2017).

Authority: Pub. L. 101-410, Pub. L. 104-134, Pub. L. 109-59, Pub. L. 114-74, Pub L. 114-94, 49 U.S.C. 32902 and 32912; delegation of authority at 49 CFR 1.81, 1.95.

Issued on: March 23, 2017.
Jack Danielson,
Acting Deputy Administrator.

[FR Doc. 2017-06119 Filed 3-27-17; 8:45 am]

BILLING CODE 4910-59-P